DEPARTMENT OF COMMERCE

International Trade Administration

[A-580-891]

Carbon and Alloy Steel Wire Rod From the Republic of Korea: Final Results of Antidumping Duty Administrative Review; 2020-2021

AGENCY: Enforcement and Compliance, International Trade Administration, Department of Commerce.

SUMMARY: The U.S. Department of Commerce (Commerce) determines that POSCO (the single entity comprised of POSCO and POSCO International Corporation (PIC)), a producer and exporter of carbon and alloy steel wire rod (wire rod) from the Republic of Korea (Korea), did not sell subject merchandise below normal value during the period of review (POR), May 1, 2020, through April 30, 2021.

DATES: Applicable October 4, 2022.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On June 2, 2022, Commerce published the Preliminary Results of this administrative review in accordance with sections 751(a)(1) and 777(i)(1) of the Tariff Act of 1930, as amended (the Act).¹ POSCO, the sole producer and exporter subject to the review, filed a hearing request on July 5, 2022, and withdrew its request on September 22, 2022.² In addition, POSCO filed a case brief, related to a single issue (i.e., whether to grant POSCO a constructed export price offset), on July 8, 2022. ³ No other interested parties commented on the Preliminary Results. Because POSCO's final dumping margin is zero, the issue raised in POSCO's case brief is moot and we have not addressed it for purposes of these final results. Commerce conducted this review in accordance with section 751(a) of the Act.

¹ See Carbon and Alloy Steel Wire Rod from the Republic of Korea: Preliminary Results of Antidumping Duty Administrative Review; 2020-2021, 87 FR 33468 (June 2, 2022) (Preliminary Results), and accompanying Preliminary Decision Memorandum.

² See POSCO's Letters, “Request for Public Hearing,” dated July 5, 2022; and “Withdrawal of Request for Public Hearing,” dated September 22, 2022.

³ See POSCO's Letter, “POSCO's Case Brief,” dated July 8, 2022.

Scope of the Order ⁴

⁴ See Carbon and Alloy Steel Wire Rod from Italy, the Republic of Korea, Spain, the Republic of Turkey, and the United Kingdom: Antidumping Duty Orders and Amended Final Affirmative Antidumping Duty Determinations for Spain and the Republic of Turkey, 83 FR 23417 (May 21, 2018) (Order).

The scope of the Order includes certain hot-rolled products of carbon steel and alloy steel, in coils, of approximately round cross section, less than 19.00 mm in actual solid cross-sectional diameter. On April 8, 2019, Commerce excluded from the scope of the Order grade 1078 and higher tire cord quality wire rod used in the production of tire cord wire.⁵ On June 13, 2019, Commerce excluded from the scope of the Order valve spring quality steel products defined as wire rod.⁶ For a complete description of the scope of the Order, see the Preliminary Decision Memorandum.

⁵ See Carbon and Alloy Steel Wire Rod from the Republic of Korea and the United Kingdom: Notice of Final Results of Antidumping Duty Changed Circumstances Review, 84 FR 13888 (April 8, 2019).

⁶ See Carbon and Alloy Steel Wire Rod from the Republic of Korea: Final Results of Antidumping Duty Changed Circumstances Review, 84 FR 27582 (June 13, 2019).

Final Determination of the Single Entity

In the Preliminary Results, we found that POSCO and PIC are affiliated and should be treated as a single entity, pursuant to 19 CFR 351.401(f).⁷ No interested party commented on this preliminary finding. As the record contains no other information or evidence that calls into question our preliminary finding, we adopt the reasoning and findings of fact outlined in the Preliminary Results with respect to this issue. Therefore, we continue to find that POSCO and PIC should be treated as a single entity.

⁷ See Preliminary Results Preliminarily Decision Memorandum at 7-9.

Final Results of the Review

We determine that the following weighted-average dumping margin exists for the period May 1, 2020, through April 30, 2021:

Producer and/or exporter | Weighted- average dumping margin (percent)
POSCO/POSCO International Corporation | 0.00

Disclosure

Because we have not modified our analysis, there are no new calculations to disclose in accordance with section 751(a) of the Act and 19 CFR 351.224(b) for the final results. We are adopting the Preliminary Results as the final results.

Assessment Rates

Pursuant to section 751(a)(2)(C) of the Act and 19 CFR 351.212(b)(1), Commerce has determined, and U.S. Customs and Border Protection (CBP) shall assess, antidumping duties on all appropriate entries of subject merchandise in accordance with the final results of this review.⁸ Because POSCO's weighted-average dumping margin is zero percent, we intend to instruct CBP to liquidate the appropriate entries without regard to antidumping duties.

⁸ See Antidumping Proceeding: Calculation of the Weighted-Average Dumping Margin and Assessment Rate in Certain Antidumping Duty Proceedings; Final Modification, 77 FR 8101 (February 14, 2012).

In accordance with Commerce's practice, for entries of subject merchandise during the POR produced by POSCO for which it did not know its merchandise was destined for the United States, we intend to instruct CBP to liquidate such entries at the all-others rate if there is no company-specific rate for the intermediate company(ies) involved in the transaction.⁹

⁹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) the cash deposit rate for POSCO is equal to the weighted-average dumping margin established in the final results of this review; (2) for previously-investigated companies not participating in this review, the cash deposit rate will continue to be the company-specific rate published for the most recently completed segment of this proceeding; (3) if the exporter was not covered in this review or the investigation, but the producer was covered, the cash deposit rate will be the rate established in the most recently completed segment of this proceeding for the producer of subject merchandise; and (4) the cash deposit rate for all other producers or exporters will continue to be 41.10 percent, the all-others rate established in the original less-than-fair-value investigation.¹⁰ These cash deposit requirements, when imposed, shall remain in effect until further notice.

¹⁰ See Order.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Order

This notice also serves as the only reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.213(h) and 351.221(b)(5).

Dated: September 28, 2022.
Abdelali Elouaradia,
Deputy Assistant Secretary for Enforcement and Compliance.

[FR Doc. 2022-21460 Filed 10-3-22; 8:45 am]

BILLING CODE 3510-DS-P